DEPARTMENT OF VETERANS AFFAIRS

[OMB Control No. 2900-0405]

Agency Information Collection Activity: REPS Annual Eligibility Report (Under the Provisions of Section 156, Pub. L. 97-377)

AGENCY: Veterans Benefits Administration, Department of Veterans Affairs.

ACTION: Notice.

SUMMARY: Veteran's Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 27, 2017.

ADDRESSES: Submit written comments on the collection of information through Federal Docket Management System (FDMS) at www.Regulations.gov or to Yvette Allmond, Veterans Benefits Administration, Department of Veterans Affairs, 810 Vermont Avenue NW., Washington, DC 20420 or email to yvette.allmond@va.gov. Please refer to “OMB Control No. 2900-0405” in any correspondence. During the comment period, comments may be viewed online through FDMS.

FOR FURTHER INFORMATION CONTACT: Cynthia Harvey-Pryor at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 42 U.S.C. 402; Executive Order 12436.

Title: REPS Annual Eligibility Report (Under the Provisions of Section 156, Pub. L. 97-377) (VA Form 21P-8941).

OMB Control Number: 2900-0405.

Type of Review: Extension without change of a currently approved collection.

Abstract: Restored Entitlement Program for Survivors (REPS) benefits are payable to certain surviving spouses and children of veterans who died in service prior to August 13, 1981 or who died as a result of a service-connected disability incurred or aggravated prior to August 13, 1981. Child beneficiaries over age 18 and under age 23 must be enrolled full-time in an approved post-secondary school.

Executive Order 12436 “Payment of Certain Benefits to Survivors of Persons Who Died In or As A Result of Military Service” (found at 42 U.S.C. 402 (Note)) directs VA administer the provisions of Public Law 97-377 Section 156. VA codified this authority at 38 CFR 3.812.

VBA uses VA Form 21-8941 to verify a REPS beneficiary's entitlement factors including annual earnings, marital status, and the status of children. The form is completed annually by beneficiaries who have earned income that is at or near the limit of earned income. Benefits may be reduced or increased based on the beneficiary's responses.

The VA Form number is being changed to “21P-8941” to reflect Pension and Fiduciary Service's responsibility for the form.

Affected Public: Individuals and households.

Estimated Annual Burden: 300 hours.

Estimated Average Burden per Respondent: 15 minutes.

Frequency of Response: Annually.

Estimated Number of Respondents: 1,200.

By direction of the Secretary.
Cynthia Harvey-Pryor,
Department Clearance Officer, Office of Quality, Privacy and Risk, Department of Veterans Affairs.

[FR Doc. 2017-20768 Filed 9-27-17; 8:45 am]

BILLING CODE 8320-01-P